DEPARTMENT OF THE INTERIOR

U.S. Fish and Wildlife Service

[FWS-R2-ES-2008-N0063; 20124-1112-0000-F2]

Notice of Availability of Record of Decision for the Horseshoe-Bartlett Habitat Conservation Plan for Incidental Take by the Salt River Project, Maricopa and Yavapai Counties, AZ

AGENCY: U.S. Fish and Wildlife Service, Department of the Interior.

ACTION: Notice of Availability of Record of Decision.

SUMMARY: The United States Fish and Wildlife Service (Service) has issued an incidental take permit (ITP) to the Salt River Project (SRP) for 16 federally listed and candidate species in Maricopa and Yavapai counties, Arizona. Authorized take will occur as the result of modified operation of Horseshoe Dam and Reservoir (Horseshoe) and Bartlett Dam and Reservoir (Bartlett).

The Record of Decision (ROD) became effective on June 13, 2008. It states that the preferred alternative will be implemented and discusses all factors leading to the decision.

ADDRESSES: Persons wishing to review the ROD may obtain a copy by writing to the Field Supervisor, U.S. Fish and Wildlife Service, 2321 West Royal Palm Road, Suite 103, Phoenix, AZ 85021.

FOR FURTHER INFORMATION CONTACT: Ms. Debra Bills, Arizona State Office, U.S. Fish and Wildlife Service, 2321 West Royal Palm Road, Suite 103, Phoenix, AZ 85021; 602-242-0210, Mr. Charles Paradzick, Senior Ecologist, Salt River Project, P.O. Box 52025, PAB352, Phoenix, AZ 85072-2025; 602-236-2724, or Mr. Craig Sommers, President, ERO Resources Corporation, 1842 Clarkson Street, Denver, CO 80218; 303-830-1188.

A read-only downloadable copy of the ROD is available on the Internet at http://www.fws.gov/southwest/es/arizona. A copy is available for public inspection and review at the locations listed below under SUPPLEMENTARY INFORMATION.

SUPPLEMENTARY INFORMATION: Pursuant to the National Environmental Policy Act (NEPA), this notice advises the public that the Service has issued an Incidental Take Permit (ITP) to SRP for the following federally listed and candidate species: southwestern willow flycatcher (Empidonax traillii extimus), bald eagle (Haliaeetus leucocephalus), yellow-billed cuckoo (Coccyzus americanus), razorback sucker (Xyrauchen texanus), Colorado pikeminnow (Ptychocheilus lucius), Gila topminnow (Peociliopsis occidentalis occidentalis), Spikedace (Meda fulgida), loach minnow (Tiaroga cobitis), roundtail chub (Gila robusta), longfin dace (Agosia chrysogaster), Sonora sucker (Catostomus insignis), desert sucker (Catostomus clarki), speckled dace (Rhinichthys osculus), lowland leopard frog (Rana yavapaiensis), Northern Mexican gartersnake (Thamnophis eques megalops), and narrow-headed gartersnake (Thamnophis rufipunctatus).

SRP completed the Horseshoe and Bartlett Habitat Conservation Plan (HCP) as part of the application package for an ITP submitted to the Service as required by the Endangered Species Act of 1973, as amended (Act), which provides measures to minimize and mitigate for the effects of the taking of listed and candidate species and the habitats upon which they depend.

The Notice of Intent and Notice of Public Scoping Meeting was published in the Federal Register on June 19, 2003 (68 FR 36829).

The Notice of Availability for the Draft Environmental Impact Statement, application for the ITP, Draft HCP, and Draft Implementing Agreement was published in the Federal Register on July, 25 2007 (72 FR 40892).

The Notice of Availability for the Final EIS (FEIS), Final HCP, and Implementing Agreement published in the Federal Register on April 30, 2008 (73 FR 23488).

A copy of the ROD is available for public inspection and review at the following locations (by appointment at government offices):

Department of the Interior, Natural Resources Library, 1849 C. St., NW., Washington, DC 20240.

U.S. Fish and Wildlife Service, 2321 West Royal Palm Road, Suite 103, Phoenix, AZ 85021.

Salt River Project, 1521 Project Drive, Tempe, AZ 85281.

Background

Horseshoe and Bartlett are operated by SRP in conjunction with four reservoirs on the Salt River and one reservoir on East Clear Creek as integral features of the Salt River Federal Reclamation Project, authorized by the Reclamation Act of 1902, and under a 1917 contract with the United States (43 U.S.C. 499). Since completion in the 1930s and 1940s, Horseshoe and Bartlett have provided water for irrigation, municipal, and other uses. Currently, SRP reservoirs supply much of the water for the population of more than 2.6 million people in the cities of Phoenix, Mesa, Chandler, Tempe, Glendale, Gilbert, Scottsdale, Tolleson, and Avondale. Water deliveries are also made under specific water rights in Horseshoe and Bartlett held by the City of Phoenix, the Salt River Pima-Maricopa Indian Community, and the Fort McDowell Yavapai Nation. In addition, water is provided to irrigate agricultural lands within SRP and for satisfaction of the independent water rights of Buckeye Irrigation Company, Gila River Indian Community, Roosevelt Irrigation District, Roosevelt Water Conservation District, and others. Horseshoe, Bartlett, and the other SRP reservoirs also provide a variety of recreational uses and environmental benefits in central Arizona.

Due to dry conditions in central Arizona for the past 12 years, water levels in Horseshoe and Bartlett have been below normal. As a result, riparian trees and shrubs have grown in the Horseshoe storage space and have been colonized by a population of flycatchers, which are listed as endangered under the Act. Thus, periodic refilling of the reservoir may adversely impact the habitat and nesting of the flycatcher as well as the cuckoo, which uses similar habitat. Also, nonnative fish produced in Horseshoe and Bartlett can adversely impact covered fish, frog, and gartersnake species through predation, competition, and alteration of habitat in the Verde River and portions of its tributaries.

Based upon our review of the alternatives and their environmental consequences described in the FEIS, our decision is to implement Alternative 2—Optimum Operation of Horseshoe and Bartlett (the preferred alternative). The HCP will minimize and mitigate for take of the covered species named above by operating Horseshoe to maintain riparian forest in the upper end of the reservoir, acquiring and managing 200 acres of replacement habitats in perpetuity, managing Horseshoe to benefit aquatic species, funding improvements to a State native fish hatchery, stocking covered fish species, and supporting other watershed improvement projects as described in the HCP.

Thomas L. Bauer,
Acting Regional Director, Southwest Region.

[FR Doc. E8-24978 Filed 10-20-08; 8:45 am]

BILLING CODE 4310-55-P